DEPARTMENT OF AGRICULTURE

Rural Housing Service

Rural Business-Cooperative Service

Rural Utilities Service

Farm Service Agency

7 CFR Part 1924

RIN 0575-ZA00

Final Affordability Determination—Energy Efficiency Standards; Correction

AGENCY: Rural Housing Service, Rural Business-Cooperative Service, Rural Utilities Service, and Farm Service Agency, U.S. Department of Agriculture.

ACTION: Notice of final determination; correction.

SUMMARY: On May 6, 2015, the U.S. Department of Agriculture (USDA), along with the Department of Housing and Urban Development (HUD), published a joint notice of final determination regarding adoption of the 2009 edition of the International Energy Conservation Code (IECC) for single family homes and the 2007 edition of the American Society of Heating, Refrigerating and Air-conditioning Engineers (ASHRAE) 90.1 for multifamily buildings. A clerical error in production resulted in the wrong CFR attribution for USDA in the document's heading. This correction carries the proper CFR citation in its heading.

DATES: This correction is effective May 28, 2015, and applicable beginning May 6, 2015.

FOR FURTHER INFORMATION CONTACT: Meghan Walsh, Rural Housing Service, Department of Agriculture, 1400 Independence Avenue SW., Room 6900-S, Washington, DC 20250; telephone number 202-205-9590 (this is not a toll-free number).

SUPPLEMENTARY INFORMATION: On May 6, 2015, at 80 FR 25901, USDA and HUD published a joint notice of final determination. A clerical error in production caused the document to publish with USDA's CFR citation in the heading as “7 CFR Chapter 0,” and no agencies were assigned to that chapter. As represented in the heading of this correction, the correct USDA agencies and CFR citation are Rural Housing Service, Rural Business-Cooperative Service, Rural Utilities Service, and Farm Service Agency and 7 CFR part 1924.

Dated: May 22, 2015.
Lisa Mensah,
Under Secretary, Rural Development.

Dated: May 22, 2015.
Alexis M. Taylor,
Acting Under Secretary, Farm and Foreign Agricultural Services.

[FR Doc. 2015-12931 Filed 5-27-15; 8:45 am]

BILLING CODE 3410-XV-P